DEPARTMENT OF COMMERCE

National Oceanic and Atmospheric Administration

[RTID 0648-XE903]

Marine Mammals; File No. 28919

AGENCY: National Marine Fisheries Service (NMFS), National Oceanic and Atmospheric Administration (NOAA), Commerce.

ACTION: Notice; receipt of application.

SUMMARY: Notice is hereby given that Matthieu Haentjens, Friends of San Juan Island, 707 Boyce Road, Friday Harbor, WA 98250, has applied in due form for a permit to conduct commercial and educational photography on marine mammals.

DATES: Written comments must be received on or before June 26, 2025.

ADDRESSES: These documents are available upon written request via email to NMFS.Pr1Comments@noaa.gov.

Written comments on this application should be submitted via email to NMFS.Pr1Comments@noaa.gov. Please include File No. 28919 in the subject line of the email comment.

Those individuals requesting a public hearing should submit a written request via email to NMFS.Pr1Comments@noaa.gov. The request should set forth the specific reasons why a hearing on this application would be appropriate.

FOR FURTHER INFORMATION CONTACT: Shasta McClenahan, Ph.D., or Sara Young, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant requests a 2-year permit to create a documentary film focused on Steller sea lions (Eumetopias jubatus) from the non-listed Eastern distinct population segment and their natural environment in the Pacific Northwest. Up to 30 Steller sea lions may be filmed by underwater and vessel-based platforms in Washington State. Up to 5 each non-target harbor seals (Phoca vitulina), harbor porpoises (Phocoena phocoena), and Dall's porpoises (Phocoenoides dalli) may be unintentionally harassed and opportunistically filmed.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: May 20, 2025.
Kimberly Damon-Randall,
Director, Office of Protected Resources, National Marine Fisheries Service.

[FR Doc. 2025-09440 Filed 5-23-25; 8:45 am]

BILLING CODE 3510-22-P